DEPARTMENT OF COMMERCE

International Trade Administration

[C-427-819, C-428-829, C-421-809, C-412-821]

Low Enriched Uranium from France, Germany, the Netherlands, and the United Kingdom: Extension of Preliminary Results of Countervailing Duty Administrative Reviews

AGENCY: Import Administration, International Trade Administration, Department of Commerce.

ACTION: Notice of extension of time limit for preliminary results of countervailing duty administrative reviews.

EFFECTIVE DATE: October 23, 2003.

FOR FURTHER INFORMATION CONTACT: Tipten Troidl, Office of AD/CVD Enforcement VI, Import Administration, International Trade Administration, U.S. Department of Commerce, 14th Street and Constitution Avenue, NW., Washington, DC 20230; telephone: (202) 482-2786.

Statutory Time Limits

Section 751(a)(3)(A) of the Tariff Act of 1930, as amended (the Act), requires the Department of Commerce (Department) to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On March 25, 2003, the Department published a notice of initiation of administrative reviews of the countervailing duty orders on low enriched uranium from France, Germany, the Netherlands, and the United Kingdom, covering the period May 14, 2001, through December 31, 2002 (see 68 FR 14394). The preliminary results are currently due no later than October 31, 2003.

Extension of Time Limit for Preliminary Results of Reviews

We determine that these cases are extraordinarily complicated because there are a large number of complex issues which require thorough consideration and analysis by the Department, including numerous existing programs from the original investigation and changes to certain programs found countervailable in the investigation. In order to complete our analysis, we not only require additional information, but may also possibly conduct verification of this information. Therefore, we require more time to properly analyze these issues. As a result, it is not practicable to complete the preliminary results of these reviews within the original time limits. Therefore, the Department is extending the time limits for completion of the preliminary results until no later than January 29, 2004. This date constitutes a 90-day extension for the administrative reviews of low enriched uranium from France, Germany, the Netherlands, and the United Kingdom.

This extension is in accordance with section 751(a)(3)(A) of the Act.

Dated: October 17, 2003.
Holly A. Kuga,
Acting Deputy Assistant Secretary for Import Administration.

[FR Doc. 03-26797 Filed 10-22-03; 8:45 am]

BILLING CODE 3510-DS-P